DEPARTMENT OF ENERGY

Environmental Management Site-Specific Advisory Board, Idaho National Laboratory

AGENCY: Department of Energy.

ACTION: Notice of open meeting.

SUMMARY: This notice announces a meeting of the Environmental Management Site-Specific Advisory Board (EM SSAB), Idaho National Laboratory. The Federal Advisory Committee Act requires that public notice of this meeting be announced in the Federal Register.

DATES: Thursday, June 22, 2017: 8:00 a.m.-4:15 p.m.

The opportunity for public comment is at 10:30 a.m. and 3:15 p.m.

This time is subject to change; please contact the Federal Coordinator (below) for confirmation of times prior to the meeting.

ADDRESSES: Hilton Garden Inn, 700 Lindsay Boulevard, Idaho Falls, ID 83402.

FOR FURTHER INFORMATION CONTACT: Robert L. Pence, Federal Coordinator, Department of Energy, Idaho Operations Office, 1955 Fremont Avenue, MS-1203, Idaho Falls, Idaho 83415. Phone (208) 526-6518; Fax (208) 526-8789 or email: pencerl@id.doe.gov or visit the Board's Internet home page at: http://inlcab.energy.gov/.

SUPPLEMENTARY INFORMATION:

Purpose of the Board: The purpose of the Board is to make recommendations to DOE-EM and site management in the areas of environmental restoration, waste management, and related activities.

Tentative Topics (agenda topics may change up to the day of the meeting; please contact Robert L. Pence for the most current agenda):

• Recent Public Outreach

• Idaho Cleanup Project (ICP) Overview

• Update on Integrated Waste Treatment Unit (IWTU)

• Update on Waste Isolation Pilot Plant (WIPP)

• Update on Calcine Progress

• Subsurface Disposal Area CAP Design

• Idaho Department of Environmental Quality and Environmental Protection Agency Regulatory Insights

• New Site Process

• Three Mile Island, Unit 2 License Renewal

• EM SSAB Chairs Meeting Report and Recommendations

• Board Recommendation: WIPP

Public Participation: The EM SSAB, Idaho National Laboratory, welcomes the attendance of the public at its advisory committee meetings and will make every effort to accommodate persons with physical disabilities or special needs. If you require special accommodations due to a disability, please contact Robert L. Pence at least seven days in advance of the meeting at the phone number listed above. Written statements may be filed with the Board either before or after the meeting. Individuals who wish to make oral presentations pertaining to agenda items should contact Robert L. Pence at the address or telephone number listed above. The request must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Robert L. Pence, Federal Coordinator, at the address and phone number listed above. Minutes will also be available at the following Web site: http://inlcab.energy.gov/pages/meetings.php.

Issued at Washington, DC, on May 25, 2017.
LaTanya R. Butler,
Deputy Committee Management Officer.

[FR Doc. 2017-11313 Filed 5-31-17; 8:45 am]

BILLING CODE 6450-01-P